DEPARTMENT OF DEFENSE

Office of the Secretary

Defense Health Board; Notice of Federal Advisory Committee Meeting

AGENCY: Department of Defense (DoD).

ACTION: Meeting notice.

SUMMARY: Pursuant to the Federal Advisory Committee Act of 1972 (5 U.S.C., Appendix, as amended), the Government in the Sunshine Act of 1976 (5 U.S.C. 552b, as amended), and 41 CFR § 102-3.150, a Defense Health Board (DHB) meeting is announced.

DATES:

August 19, 2013

8:00 a.m.-8:45 a.m. (Administrative Working Meeting)

9:00 a.m.-12:15 p.m. (Open Session)

12:15 p.m.-1:00 p.m. (Administrative Working Meeting)

1:00 p.m.-5:15 p.m. (Open Session)

August 20, 2013

8:00 a.m.-1:00 p.m. (Administrative Working Meeting)

ADDRESSES: Marriott Annapolis Waterfront, Chesapeake Ballroom North & Center, 80 Compromise Street, Annapolis, Maryland 21401.

FOR FURTHER INFORMATION CONTACT: The Director of the Defense Health Board is Ms. Christine Bader, 7700 Arlington Boulevard, Suite 5101, Falls Church, Virginia 22042, (703) 681-6653, Fax: (703) 681-3317, Christine.bader@tma.osd.mil. For meeting information, please contact Ms. Kendal Brown, 7700 Arlington Boulevard, Suite 5101, Falls Church, Virginia 22042, Kendal.Brown.ctr@tma.osd.mil, (703) 681-6670, Fax: (703) 681-3317.

SUPPLEMENTARY INFORMATION: Additional information, including the agenda and electronic registration, is available at the DHB Web site, http://www.health.mil/dhb/.

Purpose of the Meeting

The purpose of the meeting is to address and deliberate pending and new issues before the Board.

Agenda

Pursuant to 5 U.S.C. 552b, as amended, and 41 CFR 102-3.140 through 102-3.165 and subject availability of space, the DHB meeting is open to the public from 9:00 a.m. to 12:15 p.m. and 1:00 p.m. to 5:15 p.m. on August 19, 2013. On August 19, 2013, the DHB will receive briefings from the Department to include an update on the Department's implementation of the recommendations from the Dover Port Mortuary Independent Review Subcommittee report, and briefings on the Integrated Mental Health Strategy and the Dual Loyalties of Military Medical Providers. The Board will vote on proposed recommendations regarding the implications of trends in overweight and obesity in America for the DoD and the report on the Deployment Health Clinical Center follow up review. Additionally, the Board will receive briefings on the progress being made by the subcommittees on the sustainment and advancement of amputee care, deployment pulmonary health and the dual loyalties of military medical providers.

Public's Accessibility to the Meeting

Pursuant to 5 U.S.C. 552b, as amended, and 41 CFR 102-3.140 through 102-3.165 and subject to availability of space, this meeting is open to the public. Seating is limited and is on a first-come basis.

Special Accommodations

Individuals requiring special accommodations to access the public meeting should contact Ms. Kendal Brown at least five (5) business days prior to the meeting so that appropriate arrangements can be made.

Written Statements

Any member of the public wishing to provide comments to the DHB may do so in accordance with 41 CFR 102-3.105(j) and 102-3.140 and section 10(a)(3) of the Federal Advisory Committee Act, and the procedures described in this notice.

Individuals desiring to provide comments to the DHB may do so by submitting a written statement to the DHB Designated Federal Officer (DFO) (see FOR FURTHER INFORMATION CONTACT). Written statements should address the following details: the issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Due to difficulties finalizing the meeting agenda for the scheduled meeting of August 19-20, 2013, of the Defense Health Board the requirements of 41 CFR 102-3.150(a) were not met. Accordingly, the Advisory Committee Management Officer for the Department of Defense, pursuant to 41 CFR 102-3.150(b), waives the 15-calendar day notification requirement.

Dated: August 1, 2013.
Aaron Siegel,
Alternate OSD Federal Register Liaison Officer, Department of Defense.

[FR Doc. 2013-18978 Filed 8-6-13; 8:45 am]

BILLING CODE 5001-06-P